DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR part 236 as detailed below.

[Docket Number FRA-2004-18894]

Applicant: Union Pacific Railroad Company, Mr. Phil Abaray, Chief Engineer—Signals, 1416 Dodge Street, Room 1000, Omaha, Nebraska 68179-1000.

The Union Pacific Railroad Company seeks approval of the proposed discontinuance and removal of the automatic block signal system, on the single main track, between Wellton, Arizona, milepost 770.8 and Arlington, Arizona, milepost 861.3, on the Gila and Phoenix Subdivisions, in the El Paso area, a distance of approximately 91 miles. The proposed changes include removal of signals and switch point and fouling protection in the area; conversion of westward signals 40RA and 38RB at Wellton, and eastward signal 8617 at Arlington, to red-green aspects; and conversion of eastward approach signal 7719 at Wellton, and westward approach signal 8608 at Arlington, to red-yellow aspects. This is a request to reopen docket number BS-AP-No. 3440, which was denied on July 7, 1998.

The reason given for the proposed changes is that the semaphore signals on the line are obsolete and repair parts are difficult to obtain. There are only two trains a day in each direction, which does not justify upgrading the signal system to modern equipment.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on August 27, 2004.
Grady C. Cothen, Jr.,
Acting Associate Administrator for Safety.

[FR Doc. 04-20065 Filed 9-1-04; 8:45 am]

BILLING CODE 4910-06-P